DEPARTMENT OF COMMERCE

National Oceanic and Atmospheric Administration

50 CFR Part 665

RIN 0648-XA174

Hawaii Bottomfish and Seamount Groundfish Fisheries; Fishery Closure

AGENCY: National Marine Fisheries Service (NMFS), National Oceanic and Atmospheric Administration (NOAA), Commerce.

ACTION: Temporary rule; closure.

SUMMARY: NMFS is closing the commercial and non-commercial fisheries in the main Hawaiian Islands fishery for seven deepwater bottomfish species (“Deep 7” bottomfish) as a result of reaching the total allowable catch (TAC) for the 2010-11 fishing year.

DATES: Effective March 12, 2011, through August 31, 2011.

FOR FURTHER INFORMATION CONTACT: Jarad Makaiau, Sustainable Fisheries Division, NMFS Pacific Islands Region, 808-944-2108.

SUPPLEMENTARY INFORMATION: Bottomfish fishing in Hawaii is managed under the Fishery Ecosystem Plan for the Hawaiian Archipelago (Hawaii FEP), developed by the Western Pacific Fishery Management Council (Council) and implemented by NMFS under the authority of the Magnuson-Stevens Fishery Conservation and Management Act. Regulations governing fishing by U.S. vessels in accordance with the Hawaii FEP appear at 50 CFR part 665 and at subpart H of 50 CFR part 600.

The regulations at § 665.211 authorize NMFS and the Council to set a TAC limit for Deep 7 bottomfish for the fishing year, based on the best available scientific, commercial, and other information, and taking into account the associated risk of overfishing. The Deep 7 bottomfish are onaga (Etelis coruscans), ehu (E. carbunculus), gindai (Pristipomoides zonatus), kalekale (P. sieboldii), opakapaka (P. filamentosus), lehi (Aphareus rutilans), and hapuupuu (Epinephelus quernus).

When the TAC limit for the year is projected to be reached, the NMFS Regional Administrator is required to publish notification that the fishery will be closed beginning on a specified date, not earlier than 14 days after the date of filing the closure notice for public inspection at the Office of the Federal Register, until the end of the fishing year in which the TAC is reached. During the closure, no person may fish for, possess, or sell any Deep 7 bottomfish in the Main Hawaiian Islands, except as otherwise authorized by law. Specifically, fishing for, and the resultant possession or sale of, Deep 7 bottomfish by vessels legally permitted to fish in the Pacific Remote Island Areas, and conducted in compliance with all other laws and regulations, are not affected by this closure. There is no prohibition on fishing for or selling non-Deep 7 bottomfish species throughout the year.

The TAC limit for the 2010-2011 fishing year was recommended by the Council, and specified by NMFS, as 254,050 lb (115,235 kg) of Deep 7 bottomfish (75 FR 53606; September 1, 2010). Progress toward the TAC was monitored using information reported by holders of State of Hawaii commercial marine licenses through monthly catch reports submitted to the State. Based on this information, the TAC for the 2010-11 fishing year is projected to be reached on or before March 12, 2011.

In accordance with § 665.211(c), this document serves as advance notification to fishermen, the fishing industry, and the general public that the Main Hawaiian Islands Deep 7 bottomfish fishery will be closed from March 12, 2011, through the remainder of the fishing year. The 2011-12 fishing year is scheduled to open on September 1, 2011. The proposed TAC for the 2011-12 fishing year will be published in the Federal Register by August 31, 2011.

This action is required by § 665.211(c) and is exempt from review under Executive Order 12866.

Authority: 16 U.S.C. 1801 et seq.

Dated: February 22, 2011.
Margo Schulze-Haugen,
Acting Director, Office of Sustainable Fisheries, National Marine Fisheries Service.

[FR Doc. 2011-4293 Filed 2-24-11; 8:45 am]

BILLING CODE 3510-22-P